DEPARTMENT OF AGRICULTURE

Grain Inspection, Packers and Stockyards Administration

7 CFR Part 800

RIN 0580-AA58

Review Inspection Requirements

AGENCY: Grain Inspection, Packers and Stockyards Administration, USDA.

ACTION: Notice of extension of comment period.

SUMMARY: The Grain Inspection, Packers and Stockyards Administration (GIPSA) published an advanced notice of proposed rulemaking in the Federal Register on August 21, 2002, asking for comments on amending the regulations the United States Grain Standards Act (Act), as amended. The revision will allow interested persons to specify the quality factor(s) that would be redetermined during a reinspection or appeal inspection for grade. The 60 day comment period will close October 21, 2002. It has been brought to our attention that several potential commenters need additional time to formulate their responses to the proposed rule. Therefore, we are reopening and extending the comment period to provide interested parties with additional time in which to comment.

DATES: Comments must be received on or before November 21, 2002.

ADDRESSES: Written comments must be submitted to Tess Butler, GIPSA, USDA, Room 1647-S, Stop 3604, Washington, DC 20250; FAX (202) 690-2755; e-mail, comments.gipsadc@usda.gov.

All comments received will be made available for public inspection in Room 1647-South Building, 1400 Independence Avenue, SW, Washington, DC, during regular business hours (7 CFR 1.27(b)).

FOR FURTHER INFORMATION CONTACT: John Giler, at (202) 720-1748.

SUPPLEMENTARY INFORMATION: GIPSA published a proposed rule in the Federal Register on August 21, 2002 (67 FR 54133), asking for comments to allow interested persons to specify the quality factor(s) that would be predetermined during a reinspection or appeal inspection for grade. The regulations to be amended are issued under the United States Grain Standards Act, as amended (7 U.S.C. 71 et seq.)

Comments on the proposed rule were required to be received on or before October 21, 2002. Several potential commenters have indicated a need for additional time to formulate their responses to the proposed rule. Therefore, GIPSA is reopening and extending the comment period for the proposed rules for an additional 30 days. The action will allow interested persons additional time to prepare and submit comments.

Dated: October 17, 2002.
Donna Reifschneider,
Administrator.

[FR Doc. 02-26922 Filed 10-22-02; 8:45 am]

BILLING CODE 3410-EN-P